DEPARTMENT OF HOMELAND SECURITY

Coast Guard

[USCG-2005-22983]

Collection of Information Under Review by Office of Management and Budget (OMB): OMB Control Numbers: 1625-0095, 1625-0099, 1625-0101, and 1625-0102

AGENCY: Coast Guard, DHS.

ACTION: Request for comments.

SUMMARY: In compliance with the Paperwork Reduction Act of 1995, the U.S. Coast Guard intends to seek the approval of OMB for the renewal of four Information Collection Requests (ICRs). The ICRs are: (1) 1625-0095, Oil and Hazardous Material Pollution Prevention and Safety Records, Equivalents/Alternatives and Exemptions; (2) 1625-0099, Requirements for the Use of Liquefied Petroleum Gas and Compressed Natural Gas as Cooking Fuel on Passenger Vessels; (3) 1625-0101, Periodic Gauging and Engineering Analyses for Certain Tank Vessels Over 30 Years Old; and (4) 1625-0102, National Response Resource Inventory. Before submitting the ICRs to OMB, the Coast Guard is inviting comments on them as described below.

DATES: Comments must reach the Coast Guard on or before January 17, 2006.

ADDRESSES: To make sure that your comments and related material do not enter the docket [USCG-2005-22983] more than once, please submit them by only one of the following means:

(1) By mail to the Docket Management Facility, U.S. Department of Transportation (DOT), room PL-401, 400 Seventh Street, SW., Washington, DC 20590-0001.

(2) By delivery to room PL-401 on the Plaza level of the Nassif Building, 400 Seventh Street, SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, room 6106 (Attn: Mr. Arthur Requina), 2100 Second Street, SW., Washington, DC 20593-0001. The telephone number is 202-267-2326.

FOR FURTHER INFORMATION CONTACT: Mr. Arthur Requina, Office of Information Management, telephone 202-267-2326, or fax 202-267-4814, for questions on these documents; or telephone Ms. Renee V. Wright, Program Manager, Docket Operations, 202-493-0402, for questions on the docket.

SUPPLEMENTARY INFORMATION: Public participation and request for comments. We encourage you to respond to this request for comments by submitting comments and related materials. We will post all comments received, without change, to http://dms.dot.gov; they will include any personal information you have provided. We have an agreement with DOT to use the Docket Management Facility. Please see the paragraph on DOT's “Privacy Act Policy” below.

Submitting comments: If you submit a comment, please include your name and address, identify the docket number [USCG-2005-22983], indicate the specific section of the document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Request

1. Title: Oil and Hazardous Material Pollution Prevention and Safety Records, Equivalents/Alternatives and Exemptions.

OMB Control Number: 1625-0095.

Summary: This information is needed to minimize the number and impact of pollution discharges and accidents occurring during transfer of oil or hazardous materials. This information will also be used to evaluate proposed alternatives and requests for exemptions.

Need: The information collection requirement contained in this regulation is needed to: (1) Prevent or mitigate the results of an accidental release of bulk liquid hazardous materials being transferred at waterfront facilities; (2) ensure that facilities and vessels that use vapor control systems are in compliance with the safety standards developed by the Coast Guard; (3) provide equipment and operational requirements for facilities and vessels that transfer oil or hazardous materials in bulk to or from vessels with a 250 or more barrel capacity; and (4) provide procedures for vessel or facility operators who request exemption or partial exemption from the requirements of the pollution prevention regulations.

Respondents: Owners and operators of bulk oil and hazardous materials facilities and vessels.

Frequency: On occasion.

Burden Estimate: The estimated burden remains 1,440 hours a year.

2. Title: Requirements for the Use of Liquefied Petroleum Gas and Compressed Natural Gas as Cooking Fuel on Passenger Vessels.

OMB Control Number: 1625-0099.

Summary: The collection of information requires passenger vessels to have posted two placards that contain safety and operating instructions on the use of cooking appliances that use liquefied gas or compressed natural gas.

Need: Title 46 U.S.C. 3306(a)(5) authorizes the Coast Guard to prescribe regulations for the use of vessel stores of a dangerous nature. These regulations are prescribed in both un-inspected and inspected passenger vessel regulations.

Respondents: Owners and operators of passenger vessels.

Frequency: On occasion.

Burden Estimate: The estimated burden has decreased from 2,680 hours to 2,547 hours a year.

3. Title: Periodic Gauging and Engineering Analyses for Certain Tank Vessels Over 30 Years Old.

OMB Control Number: 1625-0101.

Summary: This information is used to verify the structural integrity of older tank vessels. The Oil Pollution Act of 1990 required the issuance of regulations related to the structural integrity of tank vessels, including periodic gauging of the plating thickness of tank vessels over 30 years old.

Need: Title 46 U.S.C. 3703 authorizes the Coast Guard to prescribe regulations related to tank vessels, including design, construction, alteration, repair, and maintenance. Section 31.10-21a of 46 CFR sets out the regulations related to periodic gauging and engineering analyses of certain tank vessels over 30 years old.

Respondents: Owners and operators of certain tank vessels.

Frequency: Every 5 years.

Burden Estimate: The estimated burden remains 13,688 hours a year.

4. Title: National Response Resource Inventory.

OMB Control Number: 1625-0102.

Summary: The information is needed to improve the effectiveness of deploying response equipment in the event of an oil spill. It may also be used in the development of contingency plans.

Need: Section 4202 of the Oil Pollution Act of 1990 (Pub. L. 101-380) required the Coast Guard to compile and maintain a comprehensive list of spill removal equipment. This collection helps fulfill that requirement.

Respondents: Oil spill removal organizations.

Frequency: On occasion.

Burden Estimate: The estimated burden has increased from 1,224 hours to 1,236 hours a year.

Dated: November 10, 2005.
R. T. Hewitt,
Rear Admiral, Assistant Commandant for Command, Control, Communications, Computers and Information Technology.

[FR Doc. 05-22824 Filed 11-17-05; 8:45 am]

BILLING CODE 4910-15-P